DEPARTMENT OF EDUCATION

Notice of Submission for OMB Review

AGENCY: Department of Education.

ACTION: Comment request.

SUMMARY: The Director, Information Collection Clearance Division, Privacy, Information and Records Management Services, Office of Management, invites comments on the submission for OMB review as required by the Paperwork Reduction Act of 1995 (Pub. L. 104-13).

DATES: Interested persons are invited to submit comments on or before August 1, 2011.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov. Please note that written comments received in response to this notice will be considered public records.

SUPPLEMENTARY INFORMATION: Section 3506 of the Paperwork Reduction Act of 1995 (44 U.S.C. chapter 35) requires that the Office of Management and Budget (OMB) provide interested Federal agencies and the public an early opportunity to comment on information collection requests. The OMB is particularly interested in comments which: (1) Evaluate whether the proposed collection of information is necessary for the proper performance of the functions of the agency, including whether the information will have practical utility; (2) Evaluate the accuracy of the agency's estimate of the burden of the proposed collection of information, including the validity of the methodology and assumptions used; (3) Enhance the quality, utility, and clarity of the information to be collected; and (4) Minimize the burden of the collection of information on those who are to respond, including through the use of appropriate automated, electronic, mechanical, or other technological collection techniques or other forms of information technology.

Dated: June 27, 2011.
Darrin A. King,
Director, Information Collection Clearance Division, Privacy, Information and Records Management Services, Office of Management.

Office of Special Education and Rehabilitative Services

Type of Review: Revision.

Title of Collection: Office of Special Education and Rehabilitative Services (OSERS) Peer Review Data Form.

OMB Control Number: 1820-0583.

Agency Form Number(s): N/A.

Frequency of Responses: On Occasion; Annually.

Affected Public: Individuals or households.

Total Estimated Number of Annual Responses: 1,875.

Total Estimated Annual Burden Hours: 470.

Abstract: Office of Special Education and Rehabilitative Services (OSERS) Peer Reviewer Data Form is used to support the peer review process panel assignments and to update individual peer reviewer personal information in the OSERS Peer Reviewer System database. This information is requested when an individual is asked to serve as a peer reviewer and/or updated biannually by persons who previously served as peer reviewers. The information is used by OSERS staff and the peer review contractor to identify potential reviewers who would be appropriate to review specific types of grant applications for funding; provide background information on each potential reviewer; and provide information on any reasonable accommodations that might be required by the individual. The changes to the data form include adding two check boxes that will allow first-time respondents and repeat reviewers to complete the entire form or simply update contact information. This alleviates the need for a separate form, currently in use, to update reviewer contact information. Also, to promote electronic submission, all the fields were made “fillable” through the use of text or check boxes.

Copies of the information collection submission for OMB review may be accessed from the RegInfo.gov Web site at http://www.reginfo.gov/public/do/PRAMain or from the Department's Web site at http://edicsweb.ed.gov, by selecting the “Browse Pending Collections” link and by clicking on link number 4550. When you access the information collection, click on “Download Attachments ” to view. Written requests for information should be addressed to U.S. Department of Education, 400 Maryland Avenue, SW., LBJ, Washington, DC 20202-4537. Requests may also be electronically mailed to the Internet address ICDocketMgr@ed.gov or faxed to 202-401-0920. Please specify the complete title of the information collection and OMB Control Number when making your request.

Individuals who use a telecommunications device for the deaf (TDD) may call the Federal Information Relay Service (FIRS) at 1-800-877-8339.

[FR Doc. 2011-16610 Filed 6-30-11; 8:45 am]

BILLING CODE 4000-01-P